FEDERAL ELECTION COMMISSION

[Notice 2009-04]

Price Index Increases for Contribution and Expenditure Limitations and Lobbyist Bundling Disclosure Threshold

AGENCY: Federal Election Commission.

ACTION: Notice of increases to contribution and expenditure limitations and lobbyist bundling disclosure threshold.

SUMMARY: As mandated by provisions of the Federal Election Campaign Act of 1971, as amended (“FECA” or “the Act”), the Federal Election Commission (“FEC” or “the Commission”) is adjusting certain contribution and expenditure limitations and the lobbyist bundling disclosure threshold set forth in the Act, to index the amounts for inflation. Additional details appear in the supplemental information that follows.

DATES: Under 2 U.S.C. 441a(c), the change in the dollar limits on contributions to candidates and candidates' authorized political committees is effective as of November 5, 2008. Under 2 U.S.C. 434(i)(3), the change in the threshold amount for reporting bundled contributions is effective as of January 1, 2009. Under 2 U.S.C. 441a(c), the changes in dollar limits on contributions to national political party committees, contributions by an individual, expenditures by party committees in connection with a general election for Federal office, and contributions to Senatorial candidates are effective as of January 1, 2009.

FOR FURTHER INFORMATION CONTACT: Mr. Greg J. Scott or Mr. Kevin R. Salley, Information Division, 999 E Street, NW., Washington, DC 20463; (202) 694-1100 or (800) 424-9530.

SUPPLEMENTARY INFORMATION: Under the Federal Election Campaign Act of 1971, 2 U.S.C. 431 et seq., as amended by the Bipartisan Campaign Reform Act of 2002 ¹ and the Honest Leadership and Open Government Act of 2007,² coordinated party expenditure limits (2 U.S.C. 441a(d)(3)(A), (B) and (d)), certain contribution limits (2 U.S.C. 441a(a)(1)(A) and (B), (a)(3) and (h)), and the disclosure threshold for contributions bundled by lobbyists (2 U.S.C. 434(i)(3)(A)) are adjusted periodically to reflect increases in the consumer price index. See 2 U.S.C. 441a(c)(1) and 11 CFR 110.17. The Commission is publishing this notice to announce the adjusted limits and disclosure threshold.

¹ Public Law No. 107-155, 116 Stat. 81 (Mar. 27, 2002).

² Public Law No. 110-81, 121 Stat. 735 (Sep. 14, 2007).

Coordinated Party Expenditure Limits for 2009

Under 2 U.S.C. 441a(c), the Commission must adjust the expenditure limitations established by 2 U.S.C. 441a(d) (the limits on expenditures by national party committees, state party committees, or their subordinate committees in connection with the general election campaign of candidates for Federal office) annually to account for inflation. This expenditure limitation is increased by 4.36663, the percent difference between the price index, as certified to the Commission by the Secretary of Labor, for the 12 months preceding the beginning of the calendar year and the price index for the base period (calendar year 1974).

1. Expenditure Limitation for House of Representatives in States With More Than One Congressional District

Both the national and state party committees have an expenditure limitation for each general election held to fill a seat in the House of Representatives in States with more than one congressional district. This limitation also applies to those States that elect individuals to the office of Delegate or Resident Commissioner.³ The formula used to calculate the expenditure limitation in such States multiplies the base figure of $10,000 by the price index (4.36663), rounding to the nearest $100. See 2 U.S.C. 441a(d)(3)(B) and 11 CFR 109.32(b). Based upon this formula, the expenditure limitation for 2009 general elections for House candidates in these States is $43,700.

³ Currently, these States include the District of Columbia, the Commonwealth of Puerto Rico, and the territories of American Samoa, Guam, the United States Virgin Islands and the Northern Mariana Islands. See http://www.house.gov/house/MemberWWW_by_State.shtml and http://about.dc.gov/statehood.asp.

2. Expenditure Limitation for Senate and for House of Representatives in States With Only One Congressional District

Both the national and state party committees have an expenditure limitation for a general election held to fill a seat in the Senate or in the House of Representatives in States with only one congressional district. The formula used to calculate this expenditure limitation considers not only the price index but also the voting age population (“VAP”) of the state. The VAP of each state is published annually in the Federal Register by the Department of Commerce. 11 CFR 110.18. The general election expenditure limitation is the greater of: The base figure ($20,000) multiplied by the price index, 4.36663 (which totals $87,300); or $0.02 multiplied by the VAP of the state, multiplied by 4.36663. Amounts are rounded to the nearest $100. See 2 U.S.C. 441a(d)(3)(A) and 11 CFR 109.32(b). The chart below provides the state-by-state breakdown of the 2009 general election expenditure limitations for Senate elections. The expenditure limit for 2009 House elections in states with only one congressional district ⁴ is $87,300.

⁴ Currently, these States are: Alaska, Delaware, Montana, North Dakota, South Dakota, Vermont and Wyoming. See http://www.house.gov/house/MemberWWW_by_State.shtml.

Senate General Election Expenditure Limitations—2009 Elections
State | VAP (in thousands) | VAP × .02 × the price index (4.36663) | Senate Expenditure Limit (the greater of the amount in column 3 or $87,300)
Alabama | 3,540 | $309,200 | $309,200
Alaska | 506 | 44,200 | 87,300
Arizona | 4,793 | 418,600 | 418,600
Arkansas | 2,153 | 188,000 | 188,000
California | 27,392 | 2,392,400 | 2,392,400
Colorado | 3,732 | 326,000 | 326,000
Connecticut | 2,689 | 234,900 | 234,900
Delaware | 667 | 58,300 | 87,300
Florida | 14,324 | 1,251,100 | 1,251,100
Georgia | 7,137 | 623,300 | 623,300
Hawaii | 1,003 | 87,600 | 87,600
Idaho | 1,111 | 97,000 | 97,000
Illinois | 9,722 | 849,100 | 849,100
Indiana | 4,792 | 418,500 | 418,500
Iowa | 2,290 | 200,000 | 200,000
Kansas | 2,102 | 183,600 | 183,600
Kentucky | 3,261 | 284,800 | 284,800
Louisiana | 3,303 | 288,500 | 288,500
Maine | 1,042 | 91,000 | 91,000
Maryland | 4,293 | 375,000 | 375,000
Massachusetts | 5,071 | 442,900 | 442,900
Michigan | 7,613 | 664,900 | 664,900
Minnesota | 3,966 | 346,400 | 346,400
Mississippi | 2,172 | 189,700 | 189,700
Missouri | 4,490 | 392,200 | 392,200
Montana | 747 | 65,200 | 87,300
Nebraska | 1,336 | 116,700 | 116,700
Nevada | 1,932 | 168,700 | 168,700
New Hampshire | 1,023 | 89,300 | 89,300
New Jersey | 6,635 | 579,500 | 579,500
New Mexico | 1,482 | 129,400 | 129,400
New York | 15,082 | 1,317,300 | 1,317,300
North Carolina | 6,979 | 609,500 | 609,500
North Dakota | 498 | 43,500 | 87,300
Ohio | 8,756 | 764,700 | 764,700
Oklahoma | 2,736 | 239,000 | 239,000
Oregon | 2,923 | 255,300 | 255,300
Pennsylvania | 9,686 | 846,000 | 846,000
Rhode Island | 822 | 71,800 | 87,300
South Carolina | 3,414 | 298,200 | 298,200
South Dakota | 606 | 52,900 | 87,300
Tennessee | 4,736 | 413,600 | 413,600
Texas | 17,601 | 1,537,300 | 1,537,300
Utah | 1,887 | 164,800 | 164,800
Vermont | 492 | 43,000 | 87,300
Virginia | 5,946 | 519,300 | 519,300
Washington | 5,008 | 437,400 | 437,400
West Virginia | 1,428 | 124,700 | 124,700
Wisconsin | 4,314 | 376,800 | 376,800
Wyoming | 404 | 35,300 | 87,300

Lobbyist Bundling Disclosure Threshold for 2009

The Act, as amended by HLOGA, requires certain political committees to disclose contributions bundled by lobbyists/registrants and lobbyist/registrant political action committees once the contributions exceed a specified threshold amount. The Commission must adjust this threshold amount annually to account for inflation. The disclosure threshold is increased by multiplying the $15,000 statutory disclosure threshold by 1.06797, the difference between the price index, as certified to the Commission by the Secretary of Labor, for the 12 months preceding the beginning of the calendar year and the price index for the base period (calendar year 2006). The resulting amount is rounded to the nearest multiple of $100. See 2 U.S.C. 434(i)(3)(A) and (B), 441a(c) and 11 CFR 104.22(g). Based upon this formula ($15,000 × 1.06797), the lobbyist bundling disclosure threshold for calendar year 2009 is $16,000.

Contribution Limitation Increases for Individuals, Nonmulticandidate Committees and for Certain Political Party Committees Giving to U.S. Senate Candidates for 2009-2010 Election Cycle

BCRA amended the Act to extend inflation indexing to: (1) The limitations on contributions made by persons under 2 U.S.C. 441a(a)(1)(A) (contributions to candidates) and 441a(a)(1)(B) (contributions to national party committees); (2) the biennial aggregate contribution limits applicable to individuals under 2 U.S.C. 441a(a)(3); and (3) the limitation on contributions made to U.S. Senate candidates by certain political party committees at 2 U.S.C. 441a(h). See 2 U.S.C. 441a(c). These contribution limitations are increased by multiplying the respective statutory contribution amount by 1.21597, the percent difference between the price index, as certified to the Commission by the Secretary of Labor, for the 12 months preceding the beginning of the calendar year and the price index for the base period (calendar year 2001). The resulting amount is rounded to the nearest multiple of $100. See 2 U.S.C. 441a(c) and 11 CFR 110.17(b). The Commission has calculated the applicable percent difference to be 21.6 percent. Contribution limitations shall be adjusted accordingly:

Statutory provision | Statutory amount | 2009-2010 limitation
2 U.S.C. 441a(a)(1)(A) | $2,000 | $2,400.
2 U.S.C. 441a(a)(1)(B) | $25,000 | $30,400.
2 U.S.C. 441a(a)(3)(A) | $37,500 | $45,600.
2 U.S.C. 441a(a)(3)(B) | $57,500 (of which no more than $37,500 may be attributable to contributions to political committees that are not political committees of national political parties) | $69,900 (of which no more than $45,600 may be attributable to contributions to political committees that are not political committees of national political parties).
2 U.S.C. 441a(h) | $35,000 | $42,600.

The increased limitation at 2 U.S.C. 441a(a)(1)(A) is to be in effect for the two-year period beginning on the first day following the date of the general election in the preceding year and ending on the date of the next regularly scheduled election. Thus the $2,400 figure above is in effect from November 5, 2008, to November 2, 2010. The limitations under 2 U.S.C. 441a(a)(1)(B), 441a(a)(3)(A) and (B), and 441a(h), shall be in effect beginning January 1st of the odd-numbered year and ending on December 31st of the next even-numbered year. Thus the new contribution limits under 2 U.S.C. 441a(a)(1)(B), 441a(a)(3)(A) and (B), and 441a(h) are in effect from January 1, 2009, to December 31, 2010. See 11 CFR 110.17(b)(1).

Dated: February 5, 2009.
On behalf of the Commission,
Steven T. Walther,
Chairman, Federal Election Commission.

[FR Doc. E9-2837 Filed 2-13-09; 8:45 am]

BILLING CODE 6715-01-P